ENVIRONMENTAL PROTECTION AGENCY

[EPA-HQ-OAR-2003-0085; FRL-9983-45-OAR]

Proposed Information Collection Request; Comment Request; NESHAP for Radionuclides (Renewal)

AGENCY: Environmental Protection Agency (EPA).

ACTION: Notice.

SUMMARY: The Environmental Protection Agency (EPA) is planning to submit an information collection request (ICR), “NESHAP for Radionuclides (Renewal)” (EPA ICR No. 1100.16, OMB Control No. 2060-0191) to the Office of Management and Budget (OMB) for review and approval in accordance with the Paperwork Reduction Act. Before doing so, the EPA is soliciting public comments on specific aspects of the proposed information collection as described below. This is a proposed extension of the ICR, which is currently approved through March 31, 2019. An Agency may not conduct or sponsor and a person is not required to respond to a collection of information unless it displays a currently valid OMB control number.

DATES: Comments must be submitted on or before November 5, 2018.

ADDRESSES: Submit your comments, referencing Docket ID No. EPA-HQ-OAR-2003-0085, online using www.regulations.gov (our preferred method), by email to [a-and-r-Docket@epa.gov], or by mail to: EPA Docket Center, Environmental Protection Agency, Mail Code 28221T, 1200 Pennsylvania Ave. NW, Washington, DC 20460.

EPA's policy is that all comments received will be included in the public docket without change, including any personal information provided, unless the comment includes profanity, threats, information claimed to be Confidential Business Information (CBI) or other information whose disclosure is restricted by statute.

FOR FURTHER INFORMATION CONTACT: Jonathan P. Walsh, Radiation Protection Division, Office of Radiation and Indoor Air, Mail Code 6608T, Environmental Protection Agency, 1200 Pennsylvania Ave. NW, Washington, DC 20460; telephone number: 202-343-9238; fax number: 202-343-2304; email address: walsh.jonathan@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the Paperwork Reduction Act, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: On December 15, 1989, pursuant to Section 112 of the Clean Air Act as amended in 1977 (42 U.S.C. 1857), the Environmental Protection Agency (EPA) promulgated National Emission Standards for Hazardous Air Pollutants (NESHAP) to control radionuclide emissions from several source categories. The regulations are codified at 40 CFR part 61. Of the seven subparts (B, H, I, K, R, T and W) included in the 1989 rule, as currently amended, four apply to privately-operated facilities. In addition to requiring operational practices that limit emissions, Subparts B, K, R, and W impose radionuclide dose and/or emission limits, respectively, to underground uranium mines, elemental phosphorous plants, phosphogypsum stacks, and uranium mill tailings impoundments. Facilities must measure their radionuclide emissions, perform analysis or calculations per EPA procedure, and report the results to the EPA.

Information collected is used by the EPA to ensure that public health continues to be protected from the hazards of airborne radionuclides by compliance with these standards. Compliance is demonstrated through emissions testing and dose calculation when appropriate.

Form Numbers: None.

Respondents/affected entities: The North American Industry Classification System (NAICS) codes of facilities associated with the activity of the respondents are: (1) Elemental Phosphorous—325180, (2) Phosphogypsum Stacks—212392, (3) Underground Uranium Mines—212291, and (4) Uranium Mill Tailings—212291.

Respondent's obligation to respond: Mandatory (CAA, Sec, 112; 40 CFR part 61).

Estimated number of respondents: 17 (total).

Frequency of response: Annual, or one-time depending on the source category and respondent activity.

Total estimated burden: 1,880 hours (per year). Burden is defined at 5 CFR 1320.03(b).

Total estimated cost: $447,850 (per year), which includes $328,000 annualized capital or operation and maintenance costs.

Changes in estimates: There is a decrease of 1,898 hours in the total estimated respondent burden compared with the 3,778 hours in the ICR currently approved by OMB. This decrease is due to a combination of factors. Fewer facilities, particularly uranium mines, are currently active. The only operating elemental phosphorus plant has obtained a waiver from annual testing and reporting. Compared to previous estimates, the current calculation assumes that fewer phosphogypsum stacks will require radon tests in any given year. The current assumption represents an upper bound on costs due to radon testing and reporting, compared to the actual observed activities of these facilities.

Dated: August 30, 2018.
Lee Ann B. Veal,
Director, Radiation Protection Division.

[FR Doc. 2018-19363 Filed 9-5-18; 8:45 am]

BILLING CODE 6560-50-P